ENVIRONMENTAL PROTECTION AGENCY

[OPP-66302; FRL-6829-5]

Ethion; Cancellation Order

AGENCY: Environmental Protection Agency (EPA).

ACTION: Notice.

SUMMARY: This notice announces EPA's order cancelling the registrations of all pesticide products produced by Cheminova AGRO A/S, FMC Corporation, and Micro-Flo Corporation containing O,O,O,O-tetaethyl S,S-methylene bis(phosphorodithioate) (ethion). This cancellation order follows a notice in the September 26, 2001 Federal Register announcing receipt of requests for cancellation of these products, and announcing the commencement of a public comment period as required by section 6(f)(1) of the Federal Insecticide, Fungicide, and Rodenticide Act (FIFRA). EPA has received no comments, and is therefore granting the requested cancellation orders. Any distribution, sale, or use of the products subject to this cancellation order is only permitted in accordance with the terms of the existing stocks provisions of this cancellation order.

DATES: Cancellation of manufacturing-use products will be effective on October 1, 2003, and cancellation of end-use products will be effective on December 31, 2003.

FOR FURTHER INFORMATION CONTACT: Richard Dumas,Special Review and Reregistration Division (7508C), Office of Pesticide Programs, Environmental Protection Agency, 1200 Pennsylvania Ave., NW., Washington, DC 20460; telephone number: 703-308-8015; fax number: 703-308-8041; e-mail address:dumas.richard@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Additional Information, Including Copies of this Document and Other Related Documents?

1. Electronically. You may obtain electronic copies of this document, and certain other related documents that might be available electronically, from the EPA Internet Home Page at http://www.epa.gov/. To access this document, on the Home Page select “Laws and Regulations” and then look up the entry for this document under the “Federal Register—Environmental Documents.” You can also go directly to the Federal Register listings at http://www.epa.gov/fedrgstr/.

2. In person. The Agency has established an official record for this action under docket control number OPP-66302. The official record consists of the documents specifically referenced in this action, any public comments received during an applicable comment period, and other information related to this action, including any information claimed as Confidential Business Information (CBI). This official record includes the documents that are physically located in the docket, as well as the documents that are referenced in those documents. The public version of the official record does not include any information claimed as CBI. The public version of the official record, which includes printed, paper versions of any electronic comments submitted during an applicable comment period, is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

II. What Action is the Agency Taking

This notice announces the cancellation of five ethion pesticide products as requested by Cheminova A/S, FMC Corporation, and Micro-Flo Corporation. These registrations are listed in Table 1.

A. Background Information

Ethion is an organophosphate insecticide registered for use on citrus in Florida and Texas, and cattle in eartags.

On August 24, August 29, and August 31, 2001, Micro-Flo Corporation, FMC Corporation, and Cheminova A/S, respectively, signed a Memorandum of Agreement with EPA requesting cancellation pursuant of 6(f) of FIFRA of all their registrations for products containing ethion. In the Federal Register of September 26, 2001 (66 FR 49182) (FRL-6805-5), EPA announced its intention to accept the cancellation requests and provided for a public comment period. No comments were received in response to that notice.

B. Cancellation Order

Pursuant to section 6(f)(1)(A) of FIFRA, EPA grants the cancellation requests for the registrations identified in Table 1. Accordingly, EPA orders the cancellation of the manufacturing-use products (EPA Registration Nos. 4787-10 and 279-2280) effective October 1, 2003. EPA orders the cancellation of end-use products (279-1254, 51036-89, and 51036-90) effective December 31, 2003. Any distribution, sale or use of existing stocks of the products identified in Table 1 in a manner inconsistent with the terms of this Order or the Existing Stocks Provisions in Unit III. of this notice will be considered a violation of section 12(a)(2)(K) of FIFRA and/or section 12(a)(1)(A) of FIFRA.

Table 1.—Canceled Registrations
Company | Registration Number | Product
Cheminova A/S | 4787-10 | Cheminova Ethion Technical
FMC Corporation | 279-1254 | Ethion 4 Miscible
| 279-2280 | Ethion Technical Insecticide
Micro-Flo Corporation | 51036-89 | Ethion 4 EC
| 51036-90 | Ethion 8 EC

III. Provisions for Disposition of Existing Stocks

Cancellation of manufacturing-use products will be effective on October 1, 2003, and cancellation of end-use products will be effective on December 31, 2003.

Existing stocks are those stocks of registered pesticide products which are currently in the United States and which have been packaged, labeled, and released for shipment prior to the effective date of the cancellation action (56 FR 29362, June 26, 1991).

A. Manufacturing Use Products

As of October 1, 2003, all sale and distribution of existing stocks of ethion manufacturing use products is prohibited, unless the sale or distribution is for export or for the purpose of manufacturing a product intended for export, consistent with the requirements of FIFRA section 17, or for proper disposal.

As of December 31, 2003, all use of existing stocks of manufacturing-use products to manufacture any other product is prohibited, except for production of products intended for export consistent with the requirements of FIFRA section 17.

B. End Use Products

As of December 31, 2003, Micro-Flo Corporation, FMC Corporation, and Cheminova A/S, are prohibited from distributing or selling existing stocks of the end-use products, unless the sale or distribution is for export or for the purpose of manufacturing a product intended for export, consistent with the requirements of FIFRA section 17, or for proper disposal.

As of October 1, 2004, all sale and distribution of existing stocks of the end-use products is prohibited, unless the sale or distribution is for export or for the purpose of manufacturing a product intended for export, consistent with the requirements of FIFRA section 17, or for proper disposal.

As of December 31, 2004, all use of existing stocks of the end-use products is prohibited.

List of Subjects

Environmental protection, Pesticides and pests.

Dated: March 11, 2002.
Jack E. Housenger,
Acting Director, Special Review and Reregistration Division, Office of Pesticide Programs.

[FR Doc. 02-6854 Filed 3-21-02; 8:45 am]

BILLING CODE 6560-50-S